RAILROAD RETIREMENT BOARD

Notification of Meeting

The Railroad Retirement Board hereby gives notice that the Board will meet at 11:00 a.m., November 15, 2000, in the Board Room on the 8th floor of the agency's headquarters building located at 844 N. Rush Street, Chicago, Illinois. The Board, by recorded vote, has determined that agency business requires the scheduling of this meeting with less than one week notice. The subjects to be addressed at this meeting are the Hearings Officer Vacancy and Director of Administration/Chief Enterprise Architect position.

The entire meeting will be closed to the public. The person to contact for more information is Beatrice Ezerski, Secretary to the Board, phone No. 312-751-4920.

Dated: November 9, 2000.
Beatrice Ezerski,
Secretary to the Board.

[FR Doc. 00-29310 Filed 11-13-00; 10:28 am]

BILLING CODE 7905-01-M